DEPARTMENT OF TRANSPORTATION

Federal Aviation Administration

14 CFR Part 71

[Airspace Docket No. 00-ANM-30]

Revision to Class D and Class E Airspace, Medford, OR

AGENCY: Federal Aviation Administration (FAA), DOT.

ACTION: Final rule.

SUMMARY: This action will correct official documents required as a result of a legal name change of the airport from the Medford-Jackson Airport to the Rogue Valley International-Medford Airport. Additionally, this action revises the Class E airspace at Medford, OR, to provide for adequate controlled airspace for those aircraft using the RNAV (GPS) RWY 14 Standard Instrument Approach Procedure (SIAP) to Rogue Valley International-Medford Airport located in Medford, OR.

EFFECTIVE DATE: 0901 UTC, October 3, 2002.

FOR FURTHER INFORMATION CONTACT: Mick Wall, ANM-520.7, Federal Aviation Administration, Docket No. 00-ANM-30, 1601 Lind Avenue S.W., Renton, Washington, 98055-4056; telephone number: (425) 227-2527.

SUPPLEMENTARY INFORMATION:

History

On August 17, 2001, the FAA proposed to amend Title 14 Code of Federal Regulations, part 71 (14 CFR part 71) by revising Class D and Class E airspace at Medford, OR, (66 FR 43132). In 1992 the official name of the Medford Airport was changed from Medford-Jackson County Airport to Rogue Valley International-Medford Airport. This name change was reflected in a number of publications, but not officially referenced in 14 CFR 71.1. This rule corrects the legal description of airspaces associated with the airport to reflect its current name. Additionally, this rule revises the Class E airspace to provide adequate controlled airspace for aircraft executing the new RNAV (GPS) RWY 14 SIAP. Additional Class E airspace, 700-foot and 1,200 foot controlled airspace, is required to contain aircraft within controlled airspace which are executing IFR approaches to the airport. The intended effort of this rule is designed to revise the airspace's legal descriptions, provide safe and efficient use of the navigable airspace, and enhance/promote safe flight operations under Instrument Flight Rules (IFR) and Visual Flight Rules (VFR) at Rogue Valley International-Medford Airport.

Interested parties were not invited to participate in the rule making proceedings regarding the revision to the Class D airspace or the Class E airspace designated as a surface area, as this is an action to correct official documents resulting from the legal name change of the airport. This is considered an insignificant modification to the airspace description as only the name of the associated airport is changed. The dimensions and effective hours of the Class D airspace Class E 2 surface area were not revised.

The Rule

This amendment to 14 CFR part 71 revises the Class D surface area and Class E airspace legal descriptions for Medford, OR. This rule revises the airspace legal descriptions to reflect the current name designation of the Rogue Valley International-Medford Airport, Medford, OR, and provides safe and efficient use of the navigable airspace. It will promote safe flight operations under Instrument Flight Rules (IFR) and Visual Flight Rules (VFR) at Rogue Valley International-Medford Airport. Additionally, this rule will enhance flight operations during the transition between the terminal and en route phase of flight.

The airspace areas will be depicted on aeronautical charts for pilot reference. The coordinates for this airspace docket are based on North American Datum 83. Class D surface airspace areas are published in Paragraph 5000, Class E Airspace areas designated as surface areas for an airport are published in paragraph 6002, Class E airspace areas designated as extensions to Class D or Class E surface areas are published in Paragraph 6004, and Class E airspace areas extending upward from 700 feet or more above the surface of the earth are published in Paragraph 6005, of FAA Order 7400.9J dated August 31, 2001, and effective September 16, 2001, which is incorporated by reference in 14 CFR 71.1. The Class D and Class E airspace designations listed in this document will be published subsequently in the Order.

The FAA has determined that this regulation only involves an established body of technical regulations for which frequent and routine amendments are necessary to keep them operationally current. It, therefore, (1) is not a “significantly regulatory action” under Executive Order 12866; (2) is not a “significant rule” under DOT Regulatory Policies and Procedures (44 FR 11034; February 26, 1979); and (3) does not warrant preparation of a Regulatory Evaluation as the anticipated impact is so minimal. Since this is a routine matter that will affect air traffic procedures and air navigation, it is certified that this rule will not have significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9J, Airspace Designations and Reporting Points, dated August 31, 2001, and effective September 16, 2001, is amended as follows:

Paragraph 5000 Class D Airspace

* * * * *

ANM OR D Medford, OR [REVISED]

Rogue Valley International-Medford Airport, OR

(Lat. 42°22′20″ N, long. 122°52′21″ W.)

That airspace extending upward from the surface to and including 3,800 feet MSL within a 4.1-mile radius of Rogue Valley International-Medford Airport. This Class D airspace area is effective during the specific dates and times established in advance by a Notice to Airmen. The effective date and time will thereafter be continuously published in the Airport/Facility Directory.

* * * * *

Paragraph 6002 Class E airspace designated as surface area for an airport.

* * * * *

ANM OR E2 Medford, OR [REVISED]

Rogue Valley International-Medford Airport, OR

(Lat. 42°22′20″ N, long. 122°52′21″ W.)

That airspace extending upward from the surface within a 4.1-mile radius of Rogue Valley International-Medford Airport. This Class E airspace is effective during specific dates and times established in advance by a Notice to Airmen. The effective date and time will thereafter be continuously published in the Airport/Facility Directory.

* * * * *

Paragraph 6004—Class E airspace areas designated as an extension to a Class D or Class E surface area.

* * * * *

ANM OR E4 Medford, OR [REVISED]

Rogue Valley International-Medford Airport, OR

(Lat. 42°22′20″ N, long. 122°52′21″ W.)

Rogue Valley VORTAC

(Lat. 42°27′47″ N, long. 122°54′47″ W.)

Pumie LOM

(Lat. 42°27′03″ N, long. 122°54′48″ W.)

That airspace extending upward from the surface within 1.8 miles west and 2.7 miles east of the Medford ILS localizer north course extending from the 4.1-mile radius to 2.7 miles north of the Pumie LOM and within 2.7 miles each side of the Rogue Valley VORTAC 352° radial extending from the Rogue Valley VORTAC to 11 miles north of the VORTAC, and within 4 miles each side of the Rogue Valley VORTAC 164° radial extending from the 4.1-mile radius to 19.3 miles south of the Rogue Valley International-Medford Airport.

* * * * *

Paragraph 6005 Class E airspace areas extending upward from 700 feet or more above the surface of the earth.

* * * * *

ANM OR E5 Medford OR [REVISED]

Rogue Valley International-Medford Airport, OR

(Lat. 42°22′20″ N, long. 122°52′21″ W.)

That airspace extending upward from 700 feet above the surface bounded by a line from lat. (42°45′00″ N, long. 123°10′54″ W.); to lat. 42°48′54″ N, long. 122°57′06″ W.; to lat. 42°44′00″ N, long. 122°44′36″ W.; to lat. 42°04′00″ N, long. 122°30′00″ W.; to lat. 41°56′30″ N, long. 123°00′00″ W.; to the point of origin; that airspace extending upward from 1,200-feet above the surface bounded by a line from lat. 43°00′00″ N, long. 123°30′00″ W.; to lat. 41°43′40″ N, long. 123°14′36″ W.; to lat. 42°00′00″ N, long. 122°10′30″ W to lat. 43°00′00″ N, long. 122°30′00″ W.; to the point of origin; excluding that airspace within Federal Airway areas, and the Klamath Falls, OR and Grants Pass, OR Class E airspace areas.

* * * * *

Issued in Seattle, Washington, on July 9, 2002.
Kathryn M. Vernon,
Acting Assistant Manager, Air Traffic Division, Northwest Mountain Region.

[FR Doc. 02-19557 Filed 8-6-02; 8:45 am]

BILLING CODE 4910-13-M